ENVIRONMENTAL PROTECTION AGENCY

[FRL-7135-2]

Agency Information Collection Activities: Proposed Collection; Comment Request; Nonconformance Penalties for Heavy-Duty Engines and Heavy-Duty Vehicles, Including Light-Duty Trucks

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Nonconformance Penalties for Heavy-Duty Engines and Heavy-Duty Vehicles, Including Light-Duty Trucks, ICR 1285.05, OMB Control Number 2060-0132, expired 5/31/1997, reinstatement. Before submitting the ICR to OMB for review and approval, EPA is soliciting comments on specific aspects of the proposed information collection as described below.

DATES: Comments must be submitted on or before April 1, 2002.

ADDRESSES: Office of Transportation and Air Quality, Certification and Compliance Division, Engine Programs Group, 1200 Pennsylvania Avenue, NW., Mail Code 6403J, Washington, DC 20460. Interested persons may request a copy of the ICR without charge from the contact person below.

FOR FURTHER INFORMATION CONTACT: Anthony Erb, tel.: (202) 564-9259; fax: (202) 565-2057: or e-mail: erb.anthony @epa.gov.

SUPPLEMENTARY INFORMATION: Affected entities: Entities potentially affected by this action are those which manufacture heavy-duty engines and vehicles including light-duty trucks.

Title: Nonconformance Penalties for Heavy-Duty Engines and Heavy-Duty Vehicles, Including Light-Duty Trucks; OMB Control No. 2060-0132; EPA ICR No.1285.05, expired 5/31/1997, reinstatement.

Abstract: Section 206(g) of the Act as amended in 1990 contains the nonconformance penalty (NCP) provisions. It requires tests of production engines and vehicles to determine the extent of their nonconformity. Nonconformance penalties allow a manufacturer to introduce into commerce heavy-duty engines or vehicles including light-duty trucks, which fail to conform with certain emission standards upon payment of a monetary penalty. A manufacturer that elects to pay a nonconformance penalty must perform a Production Compliance Audit (PCA). The collection activities of the nonconformance penalty program include periodic reports and other information (including the results of emission testing conducted during the PCA) which the manufacturer will create and submit to the Certification and Compliance Division (CCD), Office of Transportation and Air Quality (OTAQ), Office of Air and Radiation (OAR). CCD will use this information to ensure that manufacturers are complying with the regulations and that appropriate nonconformance penalties are being paid. Responses to this collection are voluntary based on the fact that participation in the nonconformance penalty program is an option that is available to manufacturers. Once a manufacturer opts to participate, specific regulatory requirements must be fulfilled in order to obtain a benefit under the NCP. Confidentiality of proprietary information is granted in accordance with the Freedom of Information Act, EPA regulations at 40 CFR part 2, and class determinations issued by EPA's Office of General Counsel. An agency may not conduct or sponsor, and a person is not required to respond to a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement:

Respondents/Affected Entities: Engine manufacturers.

Estimated Number of Respondents: 6.

Frequency of Response: 49.

Estimated Total Annual Hour Burden: 920 hours.

Estimated Total Annualized Capital, O&M Cost Burden: $2400. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: January 15, 2002.
Robert Brenner,
Acting Assistant Administrator for Air and Radiation.

[FR Doc. 02-2124 Filed 1-28-02; 8:45 am]

BILLING CODE 6560-50-P